DEPARTMENT OF JUSTICE

Antitrust Division

Notice Pursuant to the National Cooperative Research and Production Act of 1993—The Open Group, L.L.C.

Notice is hereby given that, on May 11, 2017, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, Abiztar Learning Technologies, S.C., Mexico City, MEXICO; Altkom Akademia S.A., Warsaw, POLAND; Arizona State University, Tempe, AZ; aRway AB, Stockholm, SWEDEN; Auldhouse Computer Training Limited, Auckland, NEW ZEALAND; Benchmark Consulting Canada, Montreal, CANADA; BP Gurus S.A. DE C.V., Mexico City, MEXICO; Cape Software, Inc., The Woodlands, TX; Enterprise Transformation Partners Pty. Ltd., Perth, WA; EuroAvionics USA, LLC, Sarasota, FL; General Secretariat of the Council of the European Union, Brussels, BELGUIM; HiSolutions AG, Berlin, GERMANY; Industrial Electronic Engineers, Inc., Van Nuys, CA; Information Professionals Pty. Ltd., Brisbane, AUSTRALIA; Intelligent Training de Colombia, Bogota, COLOMBIA; Inter-Coastal Electronics, Inc., Mesa, AZ; IT Professionals SRL-ITAcademy, Bucharest, ROMANIA; ITC GmbH Gesellschaft fur Netzwerkmanagement und Systemintegration mbH, Detmold, GERMANY; JNS Solutions, Inc., New Port Richey, FL; Kelvin, Inc., Portola Valley, CA; LNS Global, Inc., Cambridge, MA; Materna GmbH Information & Communications, Dortmund, GERMANY; Merck KGaA, Molsheim, FRANCE; Ministry of Defence, Corsham, UNITED KINGDOM; MTN Group Management Services, Johannesburg, SOUTH AFRICA; University of Leeds (NIHR Clinical Research Network), Leeds, UNITED KINGDOM; OMNICOM, s.r.o., Bratislava, SLOVAKIA; On Target Training & Management, LLC, Raleigh, NC; ourGlobe, LLC, Thun, SWITZERLAND; Piotr Golos, Sokolow Podlaski, POLAND; PMH IT Management & Services, Pty., Ltd., Groblersdal, SOUTH AFRICA; Procept Associates Ltd., Toronto, CANADA; Rapid Imaging Software, Inc., Albuquerque, NM; Riverside Research, Beavercreek, OH; Sites Learning India Pvt. Ltd., New Delhi, INDIA; Strand & Donslund A/S, Soborg, DENMARK; Terma North America, Inc., Warner Robins, GA; Tubitak Informatics and Information Security Research Center, Gebze, TURKEY; Veracity Security Intelligence, Aliso Viejo, CA; Voith Digital Solutions GmbH, Heidenheim, GERMANY; and Waterfall Security Solutions Ltd., Rosh HaAyin, ISRAEL, have been added as parties to this venture.

Also, AEGIS.net, Inc., Rockville, MD; Air China Limited, Beijing, PEOPLE'S REPUBLIC OF CHINA; ARTe Group BV, Maastricht, THE NETHERLANDS; Avionics Interface Technologies, L.L.C., Omaha, NE; Built IT Solutions, Sao Paulo, BRAZIL; Connected Digital Economy Catapult, London, UNITED KINGDOM; Creative Electronic Systems—CAL, Inc., Albuquerque, NM; DMTF Distributed Management Task Force, San Jose, CA; Edutech Enterprises, Singapore, SINGAPORE; EMC Corporation, San Antonio, TX; Energistics, Sugar Land, TX; INFO SPEC SDN BHD, Petaling Jaya, MALAYSIA; Martin-McDougall Technologies (Pty) Ltd., New South Wales, AUSTRALIA; PA Consulting Group, London, UNITED KINGDOM; Richland Technologies LLC, Lawrenceville, GA; TONEX, Inc., Dallas, TX; TriZetto Corporation, St. Louis, MO; Ultrax Aerospace, Inc., Lee's Summit, MO; Vencore, Inc., Lexington Park, MD; Vidyalankar School of Information Technology, Mumbai, INDIA; and WBEM Solutions, Inc., Burlington, MA, have withdrawn as parties to this venture.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on March 30, 2017. A notice was published in the Federal Register pursuant to Section 6(b) of the Act on April 14, 2017 (82 FR 18012).

Patricia A. Brink,
Director of Civil Enforcement, Antitrust Division.

[FR Doc. 2017-11785 Filed 6-6-17; 8:45 am]

BILLING CODE P